CORPORATION FOR NATIONAL AND COMMUNITY SERVICE

Agency Information Collection Activities; Submission to the Office of Management and Budget for Review and Approval; Comment Request; Application Package for AmeriCorps Diversity Questionnaire Form

AGENCY: Corporation for National and Community Service.

ACTION: Notice of information collection; request for comment.

SUMMARY: In accordance with the Paperwork Reduction Act of 1995, the Corporation for National and Community Service (operating as AmeriCorps) is proposing to renew an information collection.

DATES: Written comments must be submitted to the individual and office listed in the ADDRESSES section by March 14, 2022.

ADDRESSES: You may submit comments, identified by the title of the information collection activity, by any of the following methods:

(1) By mail sent to: AmeriCorps, Attention Sharron Tendai, 250 E Street SW, Washington, DC 20525.

(2) By hand delivery or by courier to the AmeriCorps mailroom at the mail address given in paragraph (1) above, between 9:00 a.m. and 4:00 p.m. Eastern Time, Monday through Friday, except federal holidays.

(3) Electronically through www.regulations.gov.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Sharron Tendai, 202-391-1029, or by email at stendai@cns.gov.

SUPPLEMENTARY INFORMATION:

Comments

An emergency 30-day Notice requesting public comment was published in the Federal Register on August 24, 2021 at Vol. 86: 47301. This comment period ended September 24, 2021. Twelve public comments were received on this Notice. AmeriCorps grouped the comments around issues raised and addressed them to the full extent possible in this revised information collection. Most of the comments focused on the data collection approach and tool, timeline for the data collection, usage of the data, safeguarding of data, assessment of burden, and organizational capacity to complete the tool. For comments related to revisions of the collection approach and updates to the tool, AmeriCorps has revised the diversity questions to better align with U.S. Census terminology and has revised definitions accordingly. For comments related to revisions to the collection timeline, AmeriCorps has not made a change, as it aims to create a baseline through this first data collection and therefore the most comprehensive and efficient time to collect is during the application process. In terms of questions related to data usage, AmeriCorps has refined the sections of the tool on purpose and usage of data. In terms of questions related to safeguarding, AmeriCorps updated language in the tool to confirm that it will be collecting data in the aggregate. The information requested does not include any types of personally identifiable information, and other than lawfully authorized requests, the information will not otherwise be disclosed to entities outside of AmeriCorps. For comments related to the assessment of burden for information collection, AmeriCorps estimated that the burden of entering existing demographic data into the Diversity Questionnaire data collection tool is correctly estimated to be 30 minutes and does not warrant a revision. Finally, for comments related to organizational capacity, AmeriCorps believes that all organizations have the capacity to fill out the tool in a timely and responsive manner; instructions in the tool were updated to say that organizations should complete the form to the “best of their ability.”

Title of Collection: AmeriCorps Diversity Questionnaire Form.

OMB Control Number: 3045-0187. Type of Review: Renewal.

Respondents/Affected Public: Businesses and Organizations and State, Local, or Tribal Governments.

Total Estimated Number of Annual Responses: 3,500.

Total Estimated Number of Annual Burden Hours: 1,750.

Abstract: The information provided by prospective and current grantees and sponsors through the AmeriCorps Diversity Questionnaire Form will enable AmeriCorps to better understand the demographic characteristics of current grantees, potential grantees, and the people served by AmeriCorps programs. The aim is to further AmeriCorps' efforts to consider the diversity of communities and participants in its grantmaking and direct service activities and create programs that represent and serve the full diversity of the community/our country.

The information requested in the Diversity Questionnaire Form will be collected in the aggregate for each grantee, applicant for funding, and sponsor receiving an AmeriCorps resource. First, it will provide AmeriCorps with a deeper understanding of the demographics of grantee and sponsor organizations and people served by AmeriCorps programs. Second, AmeriCorps will take the data into account in its grantmaking and resource allocation decisions, particularly to better reach those who are underserved. Over the next 5 years, AmeriCorps aims to ensure that 40% of all those served by AmeriCorps members and AmeriCorps Seniors volunteers are people in poverty. (AmeriCorps uses “people in poverty” as its proxy measure for “underserved,” recognizing that data shows that a higher proportion of people in poverty are people of color and other minority populations.) Third, the data will enable AmeriCorps to better target training, technical assistance, and outreach to potential grantees and sponsors, in particular those who are new to AmeriCorps, with the goal of creating programs that represent and serve the full diversity of our nation's communities.

When it collects this data for the first time, AmeriCorps will request that the Diversity Questionnaire Form be filled by every current grantee and applicant for funding and resource allocation. Following this baseline, AmeriCorps expects this questionnaire to be included with grant renewal and new applications on an annual basis. Estimated time for completion of the form is less than 30 minutes, based on staff testing of the survey. Questions have been crafted for ease of reporting and efficient collection.

In AmeriCorps' grant making processes, the questionnaire will be submitted electronically as part of the grant application and guidance about the form will be part of an in-depth set of grant application instructions. Additionally, the form will be used to collect data from sponsor applicants for directly-managed programs such as AmeriCorps' National Civilian Community Corps (NCCC). Staff will be available to provide individualized assistance, if needed, to organizations filling out the form.

AmeriCorps also seeks to continue using the currently approved information collection until the revised information collection is approved by OMB. The currently approved information collection is due to expire on 3/31/2022.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose, or provide information to or for a Federal agency. This includes the time needed to review instructions; to develop, acquire, install, and utilize technology and systems for the purpose of collecting, validating, verifying, processing, and maintaining information, and disclosing and providing information; to train personnel and to be able to respond to a collection of information; to search data sources, to complete and review the collection of information; and to transmit or otherwise disclose the information. All written comments will be available for public inspection on regulations.gov.

Dated: January 6, 2022.
Anna Mecagni,
Chief of Program Operations.

[FR Doc. 2022-00474 Filed 1-12-22; 8:45 am]

BILLING CODE 6050-28-P